DEPARTMENT OF TRANSPORTATION

Office of the Secretary

Aviation Proceedings, Agreements Filed the Week Ending May 9, 2003

The following agreements were filed with the Department of Transportation under the provisions of 49 U.S.C. sections 412 and 414. Answers may be filed within 21 days after the filing of the application.

Docket Number: OST-2003-15109.

Date Filed: May 5, 2003.

Parties: Members of the International Air Transport Association.

Subject:

PTC3 0644 dated 6 May 2003 r1-r5

Mail Vote 299—Resolution 010n

Special Passenger Amending Resolution between Afghanistan and Pakistan

Intended effective date: 15 May 2003

Dorothy Y. Beard,
Chief, Docket Operations & Media Management, Federal Register Liaison.

[FR Doc. 03-12814 Filed 5-21-03; 8:45 am]

BILLING CODE 4910-62-P